DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or the Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Actions

On November 12, 2021, OFAC determined that the property and interests in property subject to U.S. jurisdiction of the following persons are blocked under the relevant sanctions authority listed below.

Individuals

1. NEMARIAM, Abraha Kassa (a.k.a. KASSA, Abraha; a.k.a. KASSA, Wedi), Eritrea; DOB 15 Jul 1953; POB Eritrea; nationality Eritrea; Gender Male; Passport D000294 (Eritrea) (individual) [ETHIOPIA-EO14046].

Designated pursuant to section 1(f)(iii) of E.O. 14046 for being or having been a leader, official, senior executive officer, or member of the board of directors of the Government of Eritrea or its ruling People's Front for Democracy and Justice on or after November 1, 2020, where the leader, official, senior executive officer, or director is responsible for or complicit in, or who has directly or indirectly engaged or attempted to engage in, any activity contributing to the crisis in northern Ethiopia.

2. W KIDAN, Hagos Ghebrehiwet (a.k.a. WELDEKIDANE, Hagos Ghebrehiwet; a.k.a. WOLDEKIDAN, Hagos Ghebrehiwet), Asmara, Eritrea; DOB 25 Apr 1953; POB Senafe, Eritrea; nationality Eritrea; Gender Male; National ID No. 0882109 (Eritrea) (individual) [ETHIOPIA-EO14046].

Designated pursuant to section 1(g) of E.O. 14046 for having materially assisted, sponsored, or provided financial, material, or technological support for, or goods or services to or in support of the People's Front for Democracy and Justice.

Entities

1. PEOPLE'S FRONT FOR DEMOCRACY AND JUSTICE, Eritrea; Organization Established Date 1993; Organization Type: Activities of political organizations [ETHIOPIA-EO14046].

Designated pursuant to section 1(c) of E.O. 14046 for being an entity, including any government entity or a political party, that has engaged in, or whose members have engaged in, activities that have contributed to the crisis in northern Ethiopia or have obstructed a ceasefire or peace process to resolve such crisis.

2. ERITREAN DEFENSE FORCES (a.k.a. ERITREAN DEFENSE FORCE), Eritrea; Organization Established Date 1993; Target Type Government Entity [ETHIOPIA-EO14046].

Designated pursuant to section 1(c) of E.O. 14046 for being an entity, including any government entity or a political party, that has engaged in, or whose members have engaged in, activities that have contributed to the crisis in northern Ethiopia or have obstructed a ceasefire or peace process to resolve such crisis.

3. RED SEA TRADING CORPORATION, Felket Street, Asmara, Eritrea; Dubai, United Arab Emirates; Organization Established Date 1984 [ETHIOPIA-EO14046].

Designated pursuant to section 1(h) of E.O. 14046 for being owned or controlled by, or having acted or purported to act for or on behalf of, directly or indirectly, Hagos Ghebrehiwet W Kidan.

4. HIDRI TRUST, Felket Street, Asmara, Eritrea; Organization Established Date 1994 [ETHIOPIA-EO14046].

Designated pursuant to section 1(h) of E.O. 14046 for being owned or controlled by, or having acted or purported to act for or on behalf of, directly or indirectly, the People's Front for Democracy and Justice.

Dated: November 12, 2021.
Bradley T. Smith,
Acting Director, Office of Foreign Assets Control, U.S. Department of the Treasury.

[FR Doc. 2021-25957 Filed 11-26-21; 8:45 am]

BILLING CODE 4810-AL-P